FEDERAL ELECTION COMMISSION

Sunshine Act Meetings

Federal Register CITATION OF PREVIOUS ANNOUNCEMENT: 86 FR 35092.

PREVIOUSLY ANNOUNCED TIME AND DATE OF THE MEETING: Tuesday, July 13, 2021 at 10:00 a.m. and its continuation at the conclusion of the open meeting on July 15, 2021.

CHANGES IN THE MEETING: This meeting will also discuss: Matters relating to internal personnel decisions, or internal rules and practices. Information for which disclosure would constitute an unwarranted invasion of privacy. Information the premature disclosure of which would be likely to have a considerable adverse effect on the implementation of a proposed Commission action.

* * * * *

CONTACT PERSON FOR MORE INFORMATION: Judith Ingram, Press Officer, Telephone: (202) 694-1220.

Vicktoria J. Allen,
Acting Deputy Secretary of the Commission.

[FR Doc. 2021-15550 Filed 7-19-21; 11:15 am]

BILLING CODE 6715-01-P